ENVIRONMENTAL PROTECTION AGENCY

[FRL-6540-5]

Agency Information Collection Activities: Continuing Collection; Comment Request; Land Disposal Restrictions No-Migration Variances

AGENCY: Environmental Protection Agency (EPA).

ACTION: Notice.

SUMMARY: In compliance with the Paperwork Reduction Act (44 U.S.C. 3501 et seq.), this document announces that EPA is planning to submit the following continuing Information Collection Request (ICR) to the Office of Management and Budget (OMB): Land Disposal Restrictions No-Migration Variances, EPA ICR Number 1353, OMB Control Number 2050-0062, current expiration date May 31, 2000. Before submitting the ICR to OMB for review and approval, EPA is soliciting comments on specific aspects of the proposed information collection as described below.

DATES: Comments must be submitted on or before April 24, 2000.

ADDRESSES: Commenters must send an original and two copies of their comments referencing docket number F-2000-NVIP-FFFFF to: (1) if using regular US Postal Service mail: RCRA Docket Information Center, Office of Solid Waste (5305G), U.S. Environmental Protection Agency Headquarters (EPA, HQ), 1200 Pennsylvania Avenue, NW, Washington, DC 20460-0002, or (2) if using special delivery, such as overnight express service: RCRA Docket Information Center (RIC), Crystal Gateway One, 1235 Jefferson Davis Highway, First Floor, Arlington, VA 22202. Comments may also be submitted electronically through the Internet to: rcra-docket@epa.gov. Comments in electronic format should also be identified by the docket number F-2000-NVIP-FFFFF and must be submitted as an ASCII file avoiding the use of special characters and any form of encryption.

Commenters should not submit electronically any confidential business information (CBI). An original and two copies of CBI must be submitted under separate cover to: RCRA CBI Document Control Officer, Office of Solid Waste (5305W), U.S. EPA, Ariel Rios Building, 1200 Pennsylvania Avenue, NW, Washington, DC 20460-0002.

Public comments and supporting materials are available for viewing in the RCRA Information Center (RIC), located at Crystal Gateway I, First Floor, 1235 Jefferson Davis Highway, Arlington, VA. The RIC is open from 9 a.m. to 4 p.m., Monday through Friday, excluding federal holidays. To review docket materials, it is recommended that the public make an appointment by calling 703 603-9230. The public may copy a maximum of 100 pages from any regulatory docket at no charge. Additional copies cost $0.15/page. The index and some supporting materials are available electronically. See the “Supplementary Information” section for information on accessing them.

The ICR is available on the Internet at http://www.epa.gov/epaoswer/ hazwaste/ldr/icr/nomigvar.htm

The official record for this action will be kept in paper form. Accordingly, EPA will transfer all comments received electronically into paper form and place them in the official record, which will also include all comments submitted directly in writing. EPA responses to comments, whether the comments are written or electronic, will be in a notice in the Federal Register. EPA will not immediately reply to commenters electronically other than to seek clarification of electronic comments that may be garbled in transmission or during conversion to paper form, as discussed above.

FOR FURTHER INFORMATION CONTACT: For general information, contact the RCRA Hotline at 800-424-9346 or TDD 800-553-7672 (hearing impaired). In the Washington, DC, metropolitan area, call 703-412-9810 or TDD 703 412-3323. For more detailed information on specific aspects of this rulemaking, contact David Eberly, Office of Solid Waste, 5303W, U.S. Environmental Protection Agency, Ariel Rios Building, 1200 Pennsylvania Avenue, NW, Washington, DC 20460-0002, by phone at 703-308-8645, or by e-mail at eberly.david@epamail.epa.gov.

SUPPLEMENTARY INFORMATION:

Internet Availability

Today's notice and the supporting documents that detail the No-Migration Regulations ICR are available on the Internet. Follow these instructions to access this information electronically:

WWWURL: http://www.epa.gov/epaoswer/hazwaste/ldr/icr/nomigvar.htm

FTP: ftp.epa.gov

Login: anonymous

Password: your Internet e-mail address

Path:/pub/epaoswer

Note: The official record for this action will be kept in paper form and maintained at the address in the ADDRESSES section above.

Affected entities: Entities potentially affected by this action are owners and operators of hazardous waste treatment, storage, and disposal facilities.

Title: Land Disposal Restrictions No-Migration Variances, EPA ICR Number 1353, OMB Control Number 2050-0062, current expiration date May 31, 2000.

Abstract: To receive a variance from the hazardous waste land disposal prohibitions, owner/operators of hazardous waste storage or disposal facilities may petition the Environmental Protection Agency to allow land disposal of a specific restricted waste at a specific site. The EPA Regional Offices will review the petitions and determine if they successfully demonstrate “no migration.” The applicant must demonstrate that hazardous wastes can be managed safely in a particular land disposal unit, so that “no migration” of any hazardous constituents occurs from the unit for as long as the waste remains hazardous. (See 40 CFR 268.6.) If EPA grants the variance, the waste is no longer prohibited from land disposal in that particular unit. If the owner/operator fails to make this demonstration, or chooses not to petition for the variance, best demonstrated available technology (BDAT) requirements of 40 CFR 268.40 et seq must be met before the hazardous wastes are placed in a land disposal unit.

An agency may not conduct or sponsor, and a person is not required to respond to, a collection of information unless it displays a currently valid OMB control number. The OMB control numbers for EPA's regulations are listed in 40 CFR part 9 and 48 CFR Chapter 15.

The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: The Agency is estimating that no more than one respondent will prepare and submit a No-Migration variance petition during the three year period of this ICR. EPA estimates that the total annual respondent burden for all information collection activities will be approximately 3,137 hours, at an annual cost of $187,136. The annual cost includes annual capital start up and operation and maintenance costs of approximately $180. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: February 14, 2000.
Elizabeth A. Cotsworth,
Director, Office of Solid Waste.

[FR Doc. 00-4142 Filed 2-18-00; 8:45 am]

BILLING CODE 6560-50-P